DEPARTMENT OF HEALTH AND HUMAN SERVICES

Centers for Disease Control and Prevention

[Docket No. CDC-2023-0075]

National One Health Framework To Address Zoonotic Diseases and Advance Public Health Preparedness in the United States: A Framework for One Health Coordination and Collaboration Across Federal Agencies

AGENCY: Centers for Disease Control and Prevention (CDC), Department of Health and Human Services (HHS).

ACTION: Notice with comment period.

SUMMARY: The Centers for Disease Control and Prevention (CDC), in the Department of Health and Human Services (HHS), announces the opening of a docket to obtain comment on the draft National One Health Framework to Address Zoonotic Diseases and Advance Public Health Preparedness in the United States: A Framework for One Health Coordination and Collaboration across Federal Agencies (NOHF-Zoonoses). As directed by Congress through the House Appropriations Committee report accompanying the 2021 omnibus appropriations bill and the 2023 Consolidated Appropriations Act, CDC has partnered with the U.S. Department of the Interior (DOI), the U.S. Department of Agriculture (USDA), and other departments and agencies to develop this One Health framework to address zoonotic diseases and advance public health preparedness. This framework will facilitate One Health collaboration for zoonotic disease prevention and control across the United States Government for the next five years. It describes a common vision, mission, and goals for key federal partners involved in implementing a One Health approach to address zoonotic diseases and advance public health preparedness in the United States.

DATES: Written comments must be received on or before November 6, 2023.

ADDRESSES: You may submit comments, identified by Docket No. CDC-2023-0075 by either of the methods listed below. Do not submit comments by email. CDC does not accept comments by email.

• Federal eRulemaking Portal: http://www.regulations.gov. Follow the instructions for submitting comments.

• Mail: RE: NOHF-Zoonoses Public Comments, 1600 Clifton Road NE, Mailstop H16-5, Atlanta, Georgia 30329.

Instructions: All submissions received must include the agency name (Centers for Disease Control and Prevention) and Docket Number. All relevant comments received will be posted without change to http://regulations.gov, including any personal information provided. For access to the docket to read background documents or comments received, go to http://www.regulations.gov.

FOR FURTHER INFORMATION CONTACT: Natalie Wendling or Dominic Cristiano, One Health Office, Centers for Disease Control and Prevention, 1600 Clifton Road NE, Mailstop H16-5, Atlanta, Georgia 30329. Telephone: 404-639-8950. Email: onehealth@cdc.gov.

SUPPLEMENTARY INFORMATION:

Public Participation

Interested persons or organizations are invited to participate by submitting written views, recommendations, and data. CDC and our federal partners invite input from interested parties throughout public health, agriculture, wildlife, environment, and other relevant sectors including authorities at the state, tribal, local, and territorial levels, non-governmental organizations, academic institutions, private sector, the public, and others on the proposed One Health framework to address zoonotic diseases and advance public health preparedness. This input is a valuable component in finalizing the framework, and the community's time and consideration are appreciated.

CDC and our federal partners invite public comments to inform revisions to the proposed framework and follow-up activities. Commenters are encouraged to answer the following questions:

• Are there any new or proposed objectives that should be prioritized?

• What attributes and characteristics of the proposed framework will most likely lead to success?

• Are there any specific barriers or gaps to achieving success?

• Are there any critical steps or milestones necessary to successfully implement the proposed framework?

• How do state, tribal, local, and territorial partners, non-governmental organizations, academic institutions, private sector partners, and other partners want to engage with federal collaborators to advance implementation of this framework?

• What additional One Health issues should be prioritized in the future?

• What information or recommendations are needed to ensure the guiding principles of health equity, sustainability, stewardship, and a multisectoral approach are adequately addressed in the framework? How can these guiding principles be elevated during follow-up development and drafting of implementation plans?

Organizations should submit a single response reflective of the views of the organization/membership when possible. Please note that comments received, including attachments and other supporting materials, are part of the public record and are subject to public disclosure. Comments will be posted on https://www.regulations.gov. Therefore, do not include any information in your comment or supporting materials that you consider confidential or inappropriate for public disclosure. If you include your name, contact information, or other information that identifies you in the body of your comments, that information will be on public display. CDC will review all submissions and may choose to redact, or withhold, submissions containing private or proprietary information, such as Social Security numbers, medical information, inappropriate language or images, or duplicate/near duplicate examples of a mass-mail campaign.

Background

Previous multisectoral work has identified a need for a national One Health framework to address zoonotic diseases and advance public heath preparedness in the United States. In 2017, CDC, DOI, and USDA organized a One Health Zoonotic Disease Prioritization (OHZDP) workshop for the United States. Participants included 30 government officials from federal and state agencies who work to address zoonotic diseases in the public health, animal health, and environment sectors. The workshop used a One Health approach to identify and prioritize endemic and emerging zoonotic diseases of greatest national concern for the United States that should be jointly addressed by federal zoonotic disease programs. Participants also developed plans for implementing and strengthening One Health approaches to address these diseases in the United States. The development of the NOHF-Zoonoses responds to one of the recommendations from the OHZDP workshop. In addition, Congress directed CDC, in partnership with other departments and agencies, to develop a One Health framework to address zoonotic diseases and advance public health preparedness in both the House Appropriations Committee report accompanying the 2021 omnibus appropriations bill ¹ and the 2023 Consolidated Appropriations Act.²

¹ H. Rept. 116-450—Departments of Labor, Health and Human Services, and Education, and Related Agencies Appropriations Bill, 2021, H. Rept.116-450, 116th Cong. (2023), Title II—Department of Health and Human Services: pages 67-68 https://www.congress.gov/congressional-report/116th-congress/house-report/450.

² H.R. 2617, Public Law 117-328, “Consolidated Appropriations Act, 2023,” Division FF—Health and Human Services, Title II—Preparing for and Responding to Existing Viruses, Emerging New Threats, and Pandemics, Sec. 2235, pages 1297-1298 (Dec. 29, 2022), https://www.congress.gov/117/bills/hr2617/BILLS-117hr2617enr.pdf.

The draft NOHF-Zoonoses, found in the Supporting Materials tab of the docket, is focused on coordinated federal activities in the United States and describes a common vision, mission, and goals for key federal partners involved in implementing a One Health approach to address zoonotic diseases. Successful federal One Health collaboration is contingent on continued strong partnerships and coordination with public health, agriculture, wildlife, plant, environment, and other relevant authorities at state, tribal, local, and territorial levels. One Health partnerships to address zoonotic diseases cross federal, state, tribal, local, and territorial government jurisdictions and involve non-governmental, academic, and private sector partners. All relevant sectors are encouraged to collaborate for effective and consistent One Health outcomes.

Although this framework focuses primarily on zoonotic diseases and does not address other issues of One Health importance, the resulting partnerships, systems, and lessons will inform future One Health work and strengthen the nation's ability to address other threats and promote health, safety, security, and resilience at the human-animal-plant-environment interface.

Additional background information can be found on the following websites.

• Federal One Health Coordination: https://www.cdc.gov/onehealth/what-we-do/federal-coordination.html.

• United States Joint External Evaluation: https://www.who.int/publications/i/item/WHO-WHE-CPI-2017.13.

• United States One Health Zoonotic Disease Prioritization Report: https://www.cdc.gov/onehealth/pdfs/us-ohzdp-report-508.pdf.

CDC, USDA, and DOI will be offering three webinars to answer questions concerning the draft NOHF-Zoonoses. The time, date, and links to these webinars will be provided in a separate Federal Register notice.

Dated: September 15, 2023.
Tiffany Brown,
Executive Secretary, Centers for Disease Control and Prevention.

[FR Doc. 2023-20338 Filed 9-19-23; 8:45 am]

BILLING CODE 4163-18-P